ENVIRONMENTAL PROTECTION AGENCY

[FRL OP-OFA-075]

Environmental Impact Statements; Notice of Availability

Responsible Agency: Office of Federal Activities, General Information 202-564-5632 or https://www.epa.gov/nepa.

Weekly receipt of Environmental Impact Statements (EIS)

Filed June 16, 2023 10 a.m. EST Through June 26, 2023, 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230078, Draft, NSA, MD, O'Brien Road Access Modernization, Comment Period Ends: 08/14/2023, Contact: Jeffrey Williams 301-688-2970.

EIS No. 20230079, Draft, USAF, CA, KC-46A Main Operating Base Beddown, Comment Period Ends: 08/14/2023, Contact: Austin Naranjo 478-222-9225.

EIS No. 20230080, Final, USN, VA, Disposal of Decommissioned, Defueled Ex-Enterprise (CVN 65) and its Associated Naval Reactor Plants, Review Period Ends: 07/31/2023, Contact: Amanda Stuhldreher 202-781-6368.

EIS No. 20230081, Draft Supplement, USPS, DC, Draft Supplemental Environmental Impact Statement for Next Generation Delivery Vehicle Acquisitions, Comment Period Ends: 08/14/2023, Contact: Davon Collins 202-268-4570.

Dated: June 26, 2023.
Cindy S. Barger,
Director, NEPA Compliance Division, Office of Federal Activities.

[FR Doc. 2023-13926 Filed 6-29-23; 8:45 am]

BILLING CODE 6560-50-P